DEPARTMENT OF VETERANS AFFAIRS

[OMB Control No. 2900-0605]

Proposed Information Collection Activity: Proposed Collection; Comment Request

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine applicants' eligibility for accreditation as claims agents with VA.

DATES: Written comments and recommendations on the proposed collection of information should be received on or before February 22, 2005.

ADDRESSES: Submit written comments on the collection of information to James T. Dehn (022G2), Department of Veterans Affairs, 810 Vermont Avenue, NW., Washington, DC 20420 or e-mail: James T. Dehn@mail.va.gov. Please refer to “OMB Control No. 2900-0605” in any correspondence.

FOR FURTHER INFORMATION CONTACT: James T. Dehn at (202) 273-6349 or FAX (202) 273-6404.

SUPPLEMENTARY INFORMATION: Under the PRA of 1995 (Pub. L. 104-13; 44 U.S.C., 3501-3521), Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Title: Application for Accreditation as a Claims Agent, VA Form 21a.

OMB Control Number: 2900-0605.

Type of Review: Extension of a currently approved collection.

Abstract: VA Form 21a is completed by applicants in filing an application with VA General Counsel for accreditation as claims agents to represent benefit claimants before VA. The information requested is necessary to establish the statutory and regulatory eligibility requirements, e.g., good character and reputation which includes basic identifying information, information concerning past representation, military service, employment, criminal activity and mental health of the applicant. VA uses the information to determine the applicant's eligibility for accreditation as a claims agent.

Affected Public: Individuals and households.

Estimated Annual Burden: 15 hours.

Estimated Average Burden Per Respondent: 45 minutes.

Frequency of Response: On occasion.

Estimated Number of Respondents: 20.

Dated: December 10, 2004.
By direction of the Secretary.
Jacqueline Parks,
IT Specialist, Information Management Service.

[FR Doc. 04-28035 Filed 12-22-04; 8:45 am]

BILLING CODE 8320-01-P